DEPARTMENT OF HEALTH AND HUMAN SERVICES

Administration for Children and Families

Proposed Information Collection Activity; Refugee Assistance Program Estimates: Cash and Medical Assistance-ORR-1 (Office of Management and Budget #: 0970-0030)

AGENCY: Office of Refugee Resettlement, Administration for Children and Families, U.S. Department of Health and Human Services.

ACTION: Request for public comments.

SUMMARY: The Office of Refugee Resettlement (ORR), Administration for Children and Families (ACF), U.S. Department of Health and Human Services is requesting revisions to an existing data collection, ORR-1 Cash and Medical Assistance (CMA) Program Estimates (Office of Management and Budget #: 0970-0030, expiration June 30, 2025). The proposed revisions include minor revisions to the existing ORR-1 form and the addition of a template recipients must use in preparing their annual budget justification estimates in accordance with the refugee resettlement program regulations.

DATES: Comments due February 25, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ORR-1, CMA Program Estimates, is the application for grants under the CMA program. The application is required by ORR program regulations at 45 CFR 400.11(b). The regulation specifies that states must submit, as their application for this program, estimates of the projected costs they anticipate incurring in providing CMA for eligible recipients and the costs of administering the program. Under the CMA program, states are reimbursed for the costs of providing these services and benefits for 12 months after an eligible recipient arrives in this country. The eligible beneficiaries for these services and benefits are refugees, Amerasians, Cuban and Haitian Entrants, asylees, Afghans and Iraqi with Special Immigrant Visas, victims of a severe form of trafficking, and other populations. States that provide services for unaccompanied refugee minors also provide an estimate for the cost of these services for the year for which they are applying for grants.

The proposed revisions include minor changes to the existing ORR-1 form and the addition of a template recipients must use in preparing their annual budget justification estimates in accordance with the refugee resettlement program regulations. Currently recipients must submit the ORR-1, CMA Program Estimates, as the application for grants under the CMA program. A budget justification must be submitted along with the ORR-1 form. However, ORR does not provide a standardized budget justification template, so submissions vary widely in format, content, and quality, making it challenging to extract and standardize information, increasing burden on both ORR reviewers and recipients. This revision to the information collection requires states to submit budget justifications in a standardized format via a Microsoft Excel workbook, with each tab of the justification in alignment with a specific line on the ORR-1. The ORR-1 form has minor revisions, including updating the titles of columns and lines to align with current terminology, and simplifying the form to require total cost estimates where unit costs were previously requested. These revisions are a result of the standardization of the budget justification.

The revised instructions, which are now embedded within the standardized budget justification, provide guidance to recipients on how to fill out each section of the standardized budget justification. The recipients work through corresponding sections of the instructions and budget justification, and the standardized format makes clear what information is needed and at what level of detail. Upon completion of the budget justification, the values needed to populate the ORR-1 form are automatically calculated, and recipients are instructed to transfer specific data from the budget justification to the ORR-1 form in the system of record.

ORR conducted a pilot of the standardized budget justification. Feedback was positive, with participating states citing time savings in development of their budget justification and more streamlined and consistent review and analysis by ORR reviewers. The annual burden estimate has been revised to reflect this.

Respondents: State Agencies, the District of Columbia, and Replacement Designees under 45 CFR 400.301(c) administering or supervising the administration of programs under Title IV of the Act.

Annual Burden Estimates
Information collection | Total number of respondents | Annual number of responses per respondent | Average burden hours per response | Annual burden hours
ORR-1, CMA Program Estimates | 57 | 1 | 0.5 | 28.5

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 412(a)(4).

Mary C. Jones,
ACF/OPRE Certifying Officer.

[FR Doc. 2024-31044 Filed 12-26-24; 8:45 am]

BILLING CODE 4184-45-P